DEPARTMENT OF DEFENSE

Department of the Army

Army Science Board Summer Study Session

AGENCY: Department of the Army, DoD.

ACTION: Notice of open meeting.

SUMMARY: Pursuant to the Federal Advisory Committee Act of 1972 (5 U.S.C., Appendix, as amended), the Sunshine in the Government Act of 1976 (U.S.C. 552b, as amended) and 41Code of the Federal Regulations (CFR 102-3. 140 through 160, the Department of the Army announces the following committee meeting:

1. Name of Committee: Army Science Board (ASB).

2. Date: Wednesday, July 17, 2013.

3. Time: 9:00 am-12:00 pm.

4. Location: Antlers Hilton, Four South Cascade, Colorado Springs, Colorado 80903-1685.

5. Purpose of Meeting: The purpose of the meeting is for Army Science Board members to review, deliberate and vote on the findings and recommendations for the FY13 Army Science Board Reports.

6. Agenda: The board will present findings and recommendations for deliberation and votes on the following four studies:

Army Science and Technology Core Competencies study 2013—This study evaluates what science and technology competencies the Army must maintain and/or develop as core competencies.

Evaluation of the Army's use of Predictive Data study 2013—This study examines and evaluates the data, models and algorithms used for predictive analysis and the related potential human and ethical dimensions.

Planning for Climate Change study 2013—This study considers the most likely climate change scenarios and assesses how the changes might change the way the Army fights, not just tactically but also considering all the Title 10 functions, to include manning, training and equipping.

Towards Creating an Innovation Culture study 2013—This study examines the issue of innovation in the Army in the context of developing creativity, flexibility and adaptability throughout the Institutional Army, without creating a new organizational construct.

7. Committee's Designated Federal Officer or Point of Contact: COL David Trybula, david.c.trybula.mil@mail.mil and 703.614.0849.

FOR FURTHER INFORMATION CONTACT: Army Science Board Designated Federal Official, 2530 Crystal Drive, Suite 7098. Arlington, VA 22202.

SUPPLEMENTARY INFORMATION: Filing Written Statement: Pursuant to 41 CFR 102-3.140d, the Committee is not obligated to allow the public to speak; however, interested persons may submit a written statement for consideration by the Subcommittees. Individuals submitting a written statement must submit their statement to the Designated Federal Officer (DFO) at the address listed (see FOR FURTHER INFORMATION CONTACT). Written statements not received at least 10 calendar days prior to the meeting, may not be provided to or considered by the subcommittees until its next meeting.

The DFO will review all timely submissions with the subcommittee Chairs and ensure they are provided to the specific subcommittee members before the meeting. After reviewing written comments, the subcommittee Chairs and the DFO may choose to invite the submitter of the comments to orally present their issue during a future open meeting.

The DFO, in consultation with the subcommittee Chairs, may allot a specific amount of time for the members of the public to present their issues for review and discussion.

Brenda S. Bowen,
Army Federal Register Liaison Officer.

[FR Doc. 2013-13100 Filed 5-31-13; 8:45 am]

BILLING CODE 3710-08-P